DEPARTMENT OF HEALTH AND HUMAN SERVICES

National Toxicology Program (NTP); Liaison and Scientific Review Office; Meeting of the NTP Board of Scientific Counselors Technical Reports Review Subcommittee

AGENCY: National Institute of Environmental Health Sciences (NIEHS), National Institutes of Health (NIH).

ACTION: Meeting announcement and request for comments.

SUMMARY: Pursuant to Public Law 92-463, notice is hereby given of a meeting of the NTP Board of Scientific Counselors Technical Reports Review Subcommittee (TRR Subcommittee). The primary agenda topic is the peer review of the findings and conclusions presented in four draft NTP Technical Reports of rodent toxicology and carcinogenicity studies conducted by the NTP (see Preliminary Agenda below). The TRR Subcommittee meeting is open to the public with time scheduled for oral public comment. The NTP also invites written comments on any draft technical report discussed at the meeting. The TRR Subcommittee deliberations on the draft technical reports will be reported to the NTP Board of Scientific Counselors (NTP Board) at a future date.

DATES: The TRR Subcommittee meeting will be held on June 12, 2006. All individuals who plan to attend are encouraged to register online by May 30, 2006, at the NTP Web site (http://ntp.niehs.nih.gov/ select “Advisory Boards & Committees”). In order to facilitate planning for this meeting, persons wishing to make an oral presentation are asked to notify Dr. Barbara Shane via online registration, phone, or e-mail (see ADDRESSES below) by May 30, 2006, and if possible, to send a copy of the statement or talking points at that time. Written comments on the draft reports are also welcome and should also be received by May 30, 2006, to enable review by the TRR Subcommittee and NIEHS/NTP staff prior to the meeting. Persons needing special assistance, such as sign language interpretation or other reasonable accommodation in order to attend, should contact 919-541-2475 (voice), 919-541-4644 TTY (text telephone), through the Federal TTY Relay System at 800-877-8339, or by e-mail to niehsoeeo@niehs.nih.gov. Requests should be made at least 7 days in advance of the event.

ADDRESSES: The TRR Subcommittee meeting will be held in the Rodbell Auditorium, Rall Building at the NIEHS, 111 T. W. Alexander Drive, Research Triangle Park, NC 27709. A copy of the preliminary agenda, committee roster, and any additional information, when available, will be posted on the NTP Web site (http://ntp.niehs.nih.gov/ select “Advisory Boards and Committees”) and provided upon request. Public comments and any other correspondence should be submitted to Dr. Barbara Shane, Executive Secretary for the NTP Board (NTP Liaison and Scientific Review Office, NIEHS, P.O. Box 12233, MD A3-01, Research Triangle Park, NC 27709; telephone: 919-541-4253, fax: 919-541-0295; or e-mail: shane@niehs.nih.gov).

SUPPLEMENTARY INFORMATION:

Background

The primary agenda topic is the peer review of the findings and conclusions of four draft NTP Technical Reports of rodent toxicology and carcinogenicity studies conducted by the NTP (see Preliminary Agenda below) on studies with conventional strains of rats and mice.

Attendance and Registration

The meeting is scheduled for June 12, 2006, from 8:30 a.m. to adjournment and is open to the public with attendance limited only by the space available. Individuals who plan to attend are encouraged to register online at the NTP Web site by May 30, 2006, at http://ntp.niehs.nih.gov/ select “Advisory Boards and Committees” to facilitate access to the NIEHS campus. Please note that a photo ID is required to access the NIEHS campus. The NTP is making plans to videocast the meeting through the Internet at http://www.niehs.nih.gov/external/video.htm.

Availability of Meeting Materials

A copy of the preliminary agenda, committee roster, and any additional information, when available, will be posted on the NTP Web site (http://ntp.niehs.nih.gov/ select “Advisory Boards and Committees”) or may be requested in hardcopy from the NTP (see ADDRESSES above). Following the meeting, summary minutes will be prepared and made available on the NTP Web site.

Request for Comments

Public input at this meeting is invited and time is set aside for the presentation of public comments on any draft technical report. Each organization is allowed one time slot per agenda topic. At least 7 minutes will be allotted to each speaker, and if time permits, may be extended to 10 minutes. Registration for oral comments will also be available on-site, although time allowed for presentation by on-site registrants may be less than that for pre-registered speakers and will be determined by the number of persons who register at the meeting.

Persons registering to make oral comments are asked, if possible, to send a copy of their statement to Dr. Shane (see ADDRESSES above) by May 30, 2006, to enable review by the TRR Subcommittee and NIEHS/NTP staff prior to the meeting. Written statements can supplement and may expand the oral presentation. If registering on-site and reading from written text, please bring 40 copies of the statement for distribution to the TRR Subcommittee and NIEHS/NTP staff and to supplement the record. Written comments received in response to this notice will be posted on the NTP Web site. Persons submitting written comments should include their name, affiliation, mailing address, phone, fax, e-mail, and sponsoring organization (if any) with the document.

Background Information on the NTP Board of Scientific Counselors

The NTP Board is a technical advisory body comprised of scientists from the public and private sectors who provide primary scientific oversight to the overall program and its centers. Specifically, the NTP Board advises the NTP on matters of scientific program content, both present and future, and conducts periodic review of the program for the purposes of determining and advising on the scientific merit of its activities and their overall scientific quality. The TRR Subcommittee is a standing subcommittee of the NTP Board. NTP Board members are selected from recognized authorities knowledgeable in fields, such as toxicology, pharmacology, pathology, biochemistry, epidemiology, risk assessment, carcinogenesis, mutagenesis, molecular biology, behavioral toxicology and neurotoxicology, immunotoxicology, reproductive toxicology or teratology, and biostatistics. Its members are invited to serve overlapping terms of up to four years. NTP Board meetings are held annually or biannually.

Dated: February 27, 2006.
Samuel H. Wilson,
Deputy Director, National Institute of Environmental Health Sciences and the National Toxicology Program.

Preliminary Agenda

National Toxicology Program (NTP) Board of Scientific Counselors Technical Reports Review Subcommittee Meeting

June 12, 2006

Rodbell Auditorium, Rall Building, National Institute of Environmental Health Sciences, 111 TW Alexander Drive, Research Triangle Park, NC

NTP Technical Reports (TR) Scheduled for Review

• TR 539 Genistein (CASNR 446-72-0)—Multigenerational Study.

Naturally occurring phytoestrogen, found in soy products.

• TR 545: Genistein (CASNR 446-72-0)—2-year Bioassay.

Naturally occurring phytoestrogen, found in soy products.

• TR 543: α-Methylstyrene (CASNR 98-83-9).

• Used in the production of resins and polymers.

• TR 540: Methylene blue trihydrate (CAS No. 7220-79-3).

• Dye used to stain tissues and bacteriological samples for microscopy and an antidote for methemoglobinemia; previously used as a hair colorant.

[FR Doc. E6-3317 Filed 3-8-06; 8:45 am]

BILLING CODE 4140-01-P